FEDERAL RESERVE SYSTEM

12 CFR Part 229

[Regulation BB; Docket No. R-1225]

Community Reinvestment Act; Correction

AGENCY: Board of Governors of the Federal Reserve System.

ACTION: Final rule; correction.

SUMMARY: The Board of Governors is correcting the Paperwork Reduction Act information that it provided in connection with a final rule amending certain provisions of Regulation BB, which was published in the Federal Register of August 2, 2005.

DATES: The final rule is effective on September 1, 2005.

FOR FURTHER INFORMATION CONTACT: Michelle E. Long, Federal Reserve Board Clearance Officer, 202-452-3829, Division of Research and Statistics. For users of Telecommunications Device for the Deaf (TDD) only, contact 202-263-4869.

SUPPLEMENTARY INFORMATION: The Board published a final rule in the Federal Register of August 2, 2005 (70 FR 44256), that amended certain provisions of Regulation BB, effective September 1, 2005. The Paperwork Reduction Act section for this final rule included detailed information about the paperwork burden estimate for State Member Banks that are required to comply with the regulation. Inadvertently, the Board omitted from this Paperwork Reduction Act calculation the burden hours for a couple of optional requirements. This document corrects the error by revising the burden estimate on page 44265, in the second column, as follows:

Board:

Number of Respondents: 914.

Estimated Time per Response: Small business and small farm loan register, 219 hours; consumer loan data, 326 hours; other loan data, 25 hours; assessment area delineation, 2 hours; small business and small farm loan data, 8 hours; community development loan data, 13 hours; HMDA out-of-MSA loan data, 253 hours; data on lending by a consortium or third party, 17 hours; affiliated lending data, 38 hours; request for designation as a wholesale or limited purpose bank, 4 hours; and public file, 10 hours.

Total Estimated Annual Burden: 131,662 hours.

By order of the Board of Governors of the Federal Reserve System, August 15, 2005.
Jennifer J. Johnson,
Secretary of the Board.

[FR Doc. 05-16459 Filed 8-19-05; 8:45 am]

BILLING CODE 6210-01-P